SMALL BUSINESS ADMINISTRATION

[Declaration of Disaster #3411]

State of Tennessee

Rutherford County and the contiguous Counties of Bedford, Cannon, Coffee, Davidson, Marshall, Williamson and Wilson in the State of Tennessee constitute a disaster area due to damages caused by a tornado, high wind and heavy rains that occurred on April 28, 2002. Applications for loans for physical damage may be filed until the close of business on July 8, 2002 and for economic injury until the close of business on February 10, 2003 at the address listed below or other locally announced locations:

U.S. Small Business Administration, Disaster Area 2 Office, One Baltimore Place, Suite 300, Atlanta, GA 30308.

The interest rates are:

| Percent
For Physical Damage:
Homeowners with credit available elsewhere | 6.750
Homeowners without credit available elsewhere | 3.375
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 341112 and for economic injury the number is 9P5400.

(Catalog of Federal Domestic Assistance Program Nos. 59002 and 59008)
Dated: May 8, 2002.
Hector V. Barreto,
Administrator.

[FR Doc. 02-12130 Filed 5-14-02; 8:45 am]

BILLING CODE 8025-01-P